DEPARTMENT OF TRANSPORTATION

National Highway Traffic Safety Administration

[Docket No. NHTSA-2023-0049; Notice 1]

Ford Motor Company, Receipt of Petition for Decision of Inconsequential Noncompliance

AGENCY: National Highway Traffic Safety Administration (NHTSA), Department of Transportation (DOT).

ACTION: Receipt of petition.

SUMMARY: Ford Motor Company (Ford) has determined that certain model year (MY) 2021-2023 Ford and Lincoln motor vehicles do not fully comply with Federal Motor Vehicle Safety Standard (FMVSS) No. 138, Tire Pressure Monitoring Systems, and FMVSS No. 209, Seat Belt Assemblies. Ford filed a noncompliance report dated June 9, 2023, and subsequently petitioned NHTSA (the “Agency”) on June 29, 2023, for a decision that the subject noncompliances are inconsequential as they relate to motor vehicle safety. This document announces receipt of Ford's petition.

DATES: Send comments on or before December 29, 2025.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Kamna Ralhan, General Engineer, NHTSA, OVSC, (202) 366-6443 or Kelley Adams-Campos, Safety Compliance Engineer, NHTSA, Office of Vehicle Safety Compliance (OVSC), (202) 366-7479.

SUPPLEMENTARY INFORMATION:

I. Overview: Ford determined that certain MY 2021-2023 Ford and Lincoln motor vehicles do not fully comply with paragraph S4.5(a) of FMVSS No. 138, Tire Pressure Monitoring Systems, (49 CFR 571.138) and paragraph S4.1(l) of FMVSS No. 209, Seat Belt Assemblies (49 CFR 571.209).

Ford filed a noncompliance report dated June 9, 2023, pursuant to 49 CFR part 573, Defect and Noncompliance Responsibility and Reports. Ford petitioned NHTSA on June 29, 2023, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Ford's petition is published under 49 U.S.C. 30118 and 30120 and does not represent any agency decision or another exercise of judgment concerning the merits of the petition.

II. Vehicles Involved: Approximately 1,876,448 of the following Ford and Lincoln motor vehicles, manufactured between January 8, 2020, and May 30, 2023, were reported by the manufacturer:

• MY 2021-2023 Ford F-150

• MY 2021-2023 Ford Mustang Mach-E

• MY 2021-2023 Ford Bronco

• MY 2021-2023 Ford Edge

• MY 2022-2023 Ford Expedition

• MY 2023 Ford F-Super Duty: F-250, F-350, F450, F-550, F-600

• MY 2023 Ford Escape

• MY 2021-2023 Lincoln Nautilus

• MY 2022-2023 Lincoln Navigator

• MY 2023 Lincoln Corsair

III. Rule Requirements: Paragraphs S4.5(a) of FMVSS No. 138 and paragraph S4.1(l) of FMVSS No. 209 include the requirements relevant to this petition. Paragraph S4.5(a) of FMVSS No. 138 requires that the owner's manual provided with each vehicle certified as complying with paragraph S4 of FMVSS No.138 must include the statement specified in paragraph S4.5(a), which details the importance of maintaining proper tire pressure and explains the functionality of the tire pressure monitoring system (TPMS). Paragraph S4.1(l) of FMVSS No. 209 requires, in part, that a seat belt assembly include written instructions on the proper use, maintenance and periodic inspection of the seatbelt assembly and related components.

IV. Noncompliance: Ford explains that the printed paper document provided with the subject vehicles is missing certain information that is required by FMVSS Nos. 138 and 209. Specifically, the document is missing the statement required by paragraph No. 4.5(a) of FMVSS No. 138, which provides information about the TPMS, and the written instructions required by S4.1(l) of FMVSS No. 209 regarding the maintenance and periodic inspection of the seatbelt assembly and related components.

V. Summary of Ford's Petition: The following views and arguments presented in this section, “V. Summary of Ford's Petition,” are the views and arguments provided by Ford. They have not been evaluated by the Agency and do not reflect the views of the Agency. Ford describes the subject noncompliances and contends that the noncompliances are inconsequential as they relate to motor vehicle safety.

Ford explains that it introduced Digital Owner's Manuals (DOM) into U.S. vehicles starting with the MY 2021 Ford F-150 and Ford Mustang Mach-E motor vehicles, and DOMs have since been phased into the other subject vehicles. Ford notes that customers who purchase vehicles equipped with a DOM also receive a Supplemental Owner's Guide (SOG), a printed paper document that contains a subset of information available in the DOM. Prior to the introduction of the DOM, Ford determined that certain information was required to be provided to customers in printed form to comply with FMVSS requirements. Ford states that its intent was to provide printed information to customers in the SOG.

On May 11, 2023, Ford's Critical Concern Review Group (CCRG) reviewed an issue involving missing content from the SOG. The investigation found that information required by FMVSS Nos. 138 and 209 to be provided in the owner's manual or in writing was missing from the SOG. However, Ford states that the CCRG also found that the required information was included in the DOM for the subject vehicles.¹

¹ Ford notes that 26,957 MY 2022 Ford Mustang Mach-E motor vehicles lost access to the DOM after an over the air (OTA) software update in January 2023 unintentionally deleted it. As of May 23, 2023, a subsequent OTA update restored the DOM for 26,368 of these vehicles. To address the missing DOM in the remaining 589 vehicles, a field service action was approved on June 2, 2023, and affected customers were mailed the full owner's manual and provided with instructions to restore the DOM either via another OTA or by visiting a dealership.

Ford references a May 18, 2009, interpretation by NHTSA's Chief Counsel's Office, which states that certain FMVSSs require information to be provided in written form, either in owner's manuals if one is provided, or in a paper format. Ford notes that the interpretation also specifies the advantages of hard copy owner's manuals.² In 2021, NHTSA published a notice in the Federal Register soliciting comments on the paperwork burdens associated with vehicle owner's manual requirements and received a comment from Alliance for Automotive Innovation suggesting that NHTSA reduce the paperwork burden of printing and distributing written owner's manuals by interpreting the requirements to permit digital format owner's manuals as an alternative to printed copies. Ford says that NHTSA responded that no such compliance option currently exists for digital formats, and the Auto Innovators' request to change the FMVSS is outside of the scope of the reinstatement request, though NHTSA would consider the request for future Agency action.³

² Ford cites NHTSA's letter to The Honorable Bob Goodlatte, May 18, 2009, available at https://www.nhtsa.gov/interpretations/09-002735-cong-goodlatte-2.

³ Agency Information Collection Activities; Notice and Request for Comments; Consolidated Vehicles' Owner's Manual Requirements for Motor Vehicles and Motor Vehicle Equipment; 87 FR 9,790, February 22, 2022.

Ford cites Maserati North America's (MNA) 2020 petition for a determination of inconsequential noncompliance, which involved a similar noncompliance regarding digital owner's manuals accessible through the vehicle's touchscreen.⁴

⁴ See Maserati North America, Inc., Receipt of Petition for Decision of Inconsequential Noncompliance; 85 FR 45466 (July 28, 2020).

Regarding the subject noncompliance, Ford explains that while the language required by paragraph S4.5(a) of FMVSS No. 138 is not included in the printed SOG provided with the vehicle, it is provided to customers digitally in the DOM. Similarly, for FMVSS No. 209, Ford states that although the printed SOG does not include the written instructions on the maintenance and periodic inspection of the seatbelt assembly and related components, these instructions were included in the DOM.

Ford contends that the subject noncompliance is inconsequential to motor vehicle safety because vehicle occupants can access all required owner's manual content, including the information required by FMVSS No. 138 and FMVSS No. 209, through the DOM displayed on the center console's infotainment screen. Ford asserts that the DOM is organized with a table of contents and a search function, allowing users to easily locate information. Ford emphasizes that, unlike the compact disc (CD) manual referenced in a NHTSA 2009 interpretation, the DOM is integrated into the vehicle and, therefore, cannot be misplaced.⁵ Appendix I of Ford's petition details the steps for accessing the DOM through the infotainment screen, with similar steps applicable to all affected vehicles.

⁵ Ford cites NHTSA's letter to The Honorable Bob Goodlatte, May 18, 2009, available at https://www.nhtsa.gov/interpretations/09-002735-cong-goodlatte-2.

Ford also states that the required owner's manual information is available to the public via ford.com/supportandlincoln.com/support, and vehicle owners can access it through the “Ford Pass” and “Lincoln Way” mobile applications. According to Ford, the owner's manual for all affected vehicles is available online, along with informational videos about the vehicles. The online owner's manual includes the information required by paragraph S4.5 of FMVSS No. 138, and the written information required by paragraph S4.1(l) of FMVSS No. 209. Ford states that the owner's manuals are accessible by vehicle identification number or by model year and model lookup. Additionally, the Ford website address is provided in the “Introduction” section of the affected vehicles' SOG.

Appendix II of Ford's petition details the steps to access the online owner's manual through ford.com/support, with similar instructions for the lincoln.com/support website. Ford further explains that customers can use the “Ford Pass” or “Lincoln Way” mobile applications, available free of charge, to view their vehicle's owner's manual. These mobile applications require users to download the application, register their vehicle, and have internet or cellular access on their mobile device.

Appendix III of Ford's petition specifies how a user can access the owner's manual through the “Ford Pass” mobile application, with similar steps for the “Lincoln Way” mobile application.

Ford reports that it searched its internal records and Vehicle Owner Questionnaires (VOQs) and found no evidence of customers experiencing confusion or lacking information regarding TPMS indicators or the maintenance and inspection of seatbelt components. Ford found no other related complaints, accidents or injuries associated with the subject noncompliances. While Ford acknowledges that this fact is not dispositive, Ford considers it illustrative of the field performance.

Ford concludes by stating its belief that the subject noncompliances are inconsequential as they relate to motor vehicle safety and its petition to be exempted from providing notification of the noncompliances, as required by 49 U.S.C. 30118, and a remedy for the noncompliances, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Ford no longer controlled at the time it determined that the noncompliance existed. However, any decision on this petition does not relieve vehicles distributors and dealers of the prohibitions on the sale, offer for sale, or introduction or delivery for introduction into interstate commerce of the noncompliant vehicles under their control after Ford notified them that the subject noncompliances existed.

(Authority: 49 U.S.C. 30118, 30120: delegations of authority at 49 CFR 1.95 and 501.8)

Otto G. Matheke, III,
Director, Office of Vehicle Safety Compliance.

[FR Doc. 2025-21530 Filed 11-26-25; 8:45 am]

BILLING CODE 4910-59-P